OFFICE OF THE UNITED STATES TRADE REPRESENTATIVE

Generalized System of Preferences (GSP); Notice Regarding Possible Changes to Product Eligibility for India

AGENCY: Office of the United States Trade Representative.

ACTION: Notice.

SUMMARY: This notice announces a process for considering changes to the product eligibility list for India under the Generalized System of Preferences (GSP) program; lists the schedule for the public hearing that is part of this process, for requesting participation in the hearing and for submitting pre-hearing and post-hearing briefs.

FOR FURTHER INFORMATION CONTACT: GSP Subcommittee, Office of the United States Trade Representative, 600 17th Street, NW, Room 518, Washington, DC 20508. The telephone number is (202) 395-6971.

SUPPLEMENTARY INFORMATION: The GSP program grants duty-free treatment to designated eligible articles that are imported from designated beneficiary developing countries. The GSP program is authorized by Title V the Trade Act of 1974, as amended (“Trade Act”) (19 U.S.C. 2461 et seq.), and administered in accordance with GSP regulations (15 CFR part 2007) which provide for a review of product eligibility. This notice requests public comment on possible changes in the GSP product eligibility list for India through the redesignation and waiver of “competitive need limitations” (CNLs) for the articles included in the annex to this notice. Authorization for granting CNL waivers is set forth in section 503(d) of the Trade Act (19 U.S.C. 2464(d)). GSP benefits also may be abridged. In making such a determination the President may consider several factors, one of which is whether the country offers reasonable and equitable market access for U.S. goods and services (19 U.S.C. 2462(c)(4)). Since the process for curtailing benefits does not involve advice from the United States International Trade Commission (USITC) and is therefore shorter, the public is advised that, under the current market conditions, comment on will be sought early next year on whether to restrict certain GSP benefits now enjoyed by India. The specific tariff headings to be considered will be circulated early next year.

It is expected that decisions on both issues will be made on or about April 1, 2001. Each process will be conducted to meet that timetable.

Opportunities for Public Comment and Inspection of Comments

The GSP Subcommittee of the TPSC invites comments in support of, or in opposition to, the redesignations and CNL waivers which are the subject of this notice. Submissions should comply with 15 CFR part 2007, including §§ 2007.0, and 2007.1. All submissions should identify the subject article(s) in terms of the current Harmonized Tariff Schedule of the United States (“HTS”) nomenclature.

Comments should be submitted in fourteen (14) copies in English, to the chairman of the GSP Subcommittee of the Trade Policy Staff Committee, 600 17th Street, NW, Room 518, Washington, DC 20508. Information submitted will be subject to public inspection by appointment with the staff of the USTR public reading room, except for information granted “business confidential”status pursuant to 15 CFR 2003.6 and other qualifying information submitted in confidence pursuant to 15 CFR 2007.7. If the document contains confidential information, an original and fourteen (14) copies of a nonconfidential version of the submission along with an original and fourteen (14) copies of the confidential version must be submitted. In addition, any document containing confidential information should be clearly marked “confidential” at the top and bottom of each page of the document. The version that does not contain confidential information (the public version) should also be clearly marked at the to and bottom of every page (either “public version” or “nonconfidential”). Comments should be submitted no later than 5 p.m. on December 6, 2000.

Notice of Public Hearings

Hearings will be held on January 5, 2001 beginning at 10:00 a.m. at the Office of the United States Trade Representative, White House Conference Center, Truman Room, 726 Jackson Place, NW., Washington, DC 20508. The hearings will be open to the public and a transcript of the hearings will be made available for public inspection or can be purchased from the reporting company. No electronic media coverage will be allowed.

All interested parties wishing to present oral testimony at the hearings must submit the name, address, and telephone number of the witnesses representing their organization to the Chairman of the GSP Subcommittee. Such requests to present oral testimony at the public hearings should be accompanied by fourteen (14) copies, in English, of a written brief or statement, and should be received by 5 p.m. on December 6, 2000. Oral testimony before the GSP Subcommittee will be limited to five minute presentations that summarize or supplement information contained in the briefs or statements submitted for the record. Post-hearing and rebuttal briefs or statements should conform to the regulations cited above and be submitted in fourteen (14) copies, in English, no later than 5 p.m. February 2, 2001. Interested persons not wishing to appear at the public hearings may also submit pre-hearing written briefs or statements by 5 p.m. on December 6, 2000, and post-hearing and rebuttal written briefs or statements by February 2, 2001. Comments by interested persons on the USITC Report prepared as part of the product review should be submitted in fourteen (14) copies, in English, by 5 p.m. on February 28, 2001.

Jon Rosenbaum,
Assistant U.S. Trade Representative for Trade and Development.

Annex
HTS subheading | Article
[The bracketed language in this Annex has been included only to clarify the scope of the numbered subheadings which are being considered, and such language is not itself intended to describe articles which are under consideration.]
Waiver of the competitive need limits for India for certain products on the list of eligible products for the Generalized System of Preferences.
| Articles of jewelry and parts thereof, of precious metal or of metal clad with precious metal;
| Of precious metal whether or not plated or clad with precious metal:
| [Of silver, whether or not plated or clad with other precious metal]
| Of other precious metal, whether or not plated or clad with precious metal:
| [Rope, curb, cable, chain and similar articles produced in continuous lengths, all the foregoing, whether or not cut to specific lengths and whether or not set with imitation pearls or imitation gemstones, suitable for use in the manufacture of articles provided for in this heading]
| Other:
| Necklaces and neck chains, of gold:
| [Rope]
7113.19.25 | Mixed link.
7113.19.29 | Other.
| [Clasps and parts thereof]
7113.19.50 | Other.
| Table, kitchen or other household articles and parts thereof, of copper; pot scourers and scouring or polishing pads, gloves and the like, of copper; sanitary ware and parts thereof, of copper:
| Table, kitchen or other household articles and parts thereof, pot scourers and scouring or polishing pads, gloves and the like:
| [Pot scourers and scouring or polishing pads, gloves and the like]
| Other:
7418.19.10 | Coated or plated with precious metals:
| Lamps and lighting fittings including searchlights and spotlights and parts thereof, not elsewhere specified or included; illuminated signs, illuminated nameplates and the like, having a permanently fixed light source, and parts thereof not elsewhere specified or included:
| Non-electrical lamps and lighting fittings.
| [Incandescent lamps designed to be operated by propane or other gas, or by compressed air and kerosene or gasoline]
| Other:
9405.50.30 | Of brass

[FR Doc. 00-28050 Filed 10-31-00; 8:45 am]

BILLING CODE 3901-01-M